DEPARTMENT OF ENERGY

Federal Energy Regulatory Commission

Combined Notice of Filings

Take notice that the Commission has received the following Natural Gas Pipeline Rate and Refund Report filings:

Docket Number: PR21-16-000.

Applicants: Gulf Coast Express Pipeline LLC.

Description: Tariff filing per 284.123(b),(e)+(g): Estimated Fuel Adjustment to be effective 12/1/2020 under PR21-16.

Filed Date: 1/14/2021.

Accession Number: 202101145036.

Comments Due: 5 p.m. ET 2/4/2021.

284.123(g) Protests Due: 5 p.m. ET 3/15/2021.

Docket Numbers: RP21-383-000.

Applicants: National Fuel Gas Supply Corporation.

Description: § 4(d) Rate Filing: Non-Conforming (Spotlight Amendments) to be effective 2/15/2021.

Filed Date: 1/14/21.

Accession Number: 20210114-5032.

Comments Due: 5 p.m. ET 1/26/21.

Docket Numbers: RP21-384-000.

Applicants: Portland Natural Gas Transmission System.

Description: § 4(d) Rate Filing: Address Update to be effective 2/16/2021.

Filed Date: 1/15/21.

Accession Number: 20210115-5015.

Comments Due: 5 p.m. ET 1/27/21.

Docket Numbers: RP21-385-000.

Applicants: Boardwalk Storage Company, LLC.

Description: § 4(d) Rate Filing: Form(s) of Service Agmt GMS Updates to be effective 3/1/2021.

Filed Date: 1/15/21.

Accession Number: 20210115-5025.

Comments Due: 5 p.m. ET 1/27/21.

Docket Numbers: RP21-386-000.

Applicants: Texas Gas Transmission, LLC.

Description: § 4(d) Rate Filing: Form(s) of Service Agmt GMS Filing to be effective 3/1/2021.

Filed Date: 1/15/21.

Accession Number: 20210115-5029.

Comments Due: 5 p.m. ET 1/27/21.

Docket Numbers: RP21-387-000.

Applicants: Gulf South Pipeline Company, LLC.

Description: § 4(d) Rate Filing: Form(s) of Service Agmt GMS Filing to be effective 3/1/2021.

Filed Date: 1/15/21.

Accession Number: 20210115-5032.

Comments Due: 5 p.m. ET 1/27/21.

Docket Numbers: RP21-388-000.

Applicants: Gulf South Pipeline Company, LLC.

Description: § 4(d) Rate Filing: Create Bistineau Transportation Service to be effective 3/1/2021.

Filed Date: 1/15/21.

Accession Number: 20210115-5038.

Comments Due: 5 p.m. ET 1/27/21.

Docket Numbers: RP21-389-000.

Applicants: TransCameron Pipeline, LLC.

Description: § 4(d) Rate Filing: Baseline new to be effective 3/16/2021.

Filed Date: 1/15/21.

Accession Number: 20210115-5120.

Comments Due: 5 p.m. ET 1/27/21.

Docket Numbers: RP21-390-000.

Applicants: Algonquin Gas Transmission, LLC.

Description: Compliance filing Cancellation of Rate Schedule X-1—Docket CP21-10 Compliance Filing to be effective 2/15/2021.

Filed Date: 1/15/21.

Accession Number: 20210115-5194.

Comments Due: 5 p.m. ET 1/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2021.
Nathaniel J. Davis, Sr.,
Deputy Secretary.

[FR Doc. 2021-01659 Filed 1-26-21; 8:45 am]

BILLING CODE 6717-01-P